DEPARTMENT OF HEALTH AND HUMAN SERVICES

Agency for Toxic Substances and Disease Registry

[ATSDR-220]

Public Health Assessments Completed: January 2006-March 2006

AGENCY: Agency for Toxic Substances and Disease Registry (ATSDR), Department of Health and Human Services (HHS).

ACTION: Notice.

SUMMARY: This notice announces those sites for which ATSDR has completed public health assessments during the period from January 2006 through March 2006. This list includes sites that are on or proposed for inclusion on the National Priorities List (NPL) and includes sites for which assessments were prepared in response to requests from the public.

FOR FURTHER INFORMATION CONTACT: William Cibulas, Jr., Ph.D., Director, Division of Health Assessment and Consultation, Agency for Toxic Substances and Disease Registry, 1600 Clifton Road, NE., Mailstop E-32, Atlanta, Georgia 30333, telephone (404) 498-0007.

SUPPLEMENTARY INFORMATION: The most recent list of completed public health assessments was published in the Federal Register on March 29, 2006 [71 FR 15747]. This announcement is the responsibility of ATSDR under the regulation “Public Health Assessments and Health Effects Studies of Hazardous Substances Releases and Facilities” [42 CFR part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments are available for public inspection at the ATSDR Records Center, 1825 Century Boulevard, Atlanta, Georgia (not a mailing address), between 8 a.m. and 4:30 p.m., Monday through Friday except legal holidays. Public health assessments are often available for public review at local repositories such as libraries in corresponding areas. Many public health assessments are available through ATSDR's Web site at http://www.atsdr.cdc.gov/HAC/PHA/. In addition, the completed public health assessments are available by mail through the U.S. Department of Commerce, National Technical Information Service (NTIS), 5285 Port Royal Road, Springfield, Virginia 22161, or by telephone at (800) 553-6847. NTIS charges for copies of public health assessments. The NTIS order numbers are listed in parentheses following the site names.

Public Health Assessments Completed or Issued

Between January 2006, and March 2006, public health assessments were issued for the sites listed below:

NPL and Proposed NPL Sites

Florida

Naval Air Station Pensacola—(PB2006-107464)

Missouri

Newton County Mine Tailings Site—(PB2006-102431)

New York

Ellenville Scrap Iron and Metal—(PB2006-105504)

North Carolina

Ram Leather Care Site—(PB2006-105506)

Ohio

Peters Cartridge Factory—(PB2006-107529)

Oregon

Portland Harbor—(PB2006-107530)

Wisconsin

PCB Contaminated Sediment in the Lower Fox River and Green Bay—(PB2006-107466)

Non-NPL Petitioned Sites

Florida

Former Ponce de Leon Golf Course—(PB2006-105505)

Former St. Joe Products Site (a/k/a St. Joe Paper Mill)—(PB2006-103493)

North Suwannee Community (113th Street Area)—(PB2006-107465)

Raleigh Street Dump—(PB2006-103494)

Idaho

Southeast Idaho Phosphate Mining Resource Area—(PB2006-105560)

Illinois

St. Louis Smelting and Refining—(PB2006-102415)

Massachusetts

Milham Brook Area (a/k/a Glen Street Neighborhood)—(PB2006-105559)

Dated: May 10, 2006.
Kenneth Rose,
Acting Director, Office of Policy, Planning, and Evaluation, National Center for Environmental Health/Agency for Toxic Substances and Disease Registry.

[FR Doc. E6-7480 Filed 5-16-06; 8:45 am]

BILLING CODE 4163-70-P